COMMISSION ON CIVIL RIGHTS

Notice of Public Meeting of the Missouri Advisory Committee for a Meeting To Hear Testimony Regarding Police and Community Interaction in Missouri

AGENCY: U.S. Commission on Civil Rights.

ACTION: Notice of meeting.

SUMMARY: Notice is hereby given, pursuant to the provisions of the rules and regulations of the U.S. Commission on Civil Rights (Commission) and the Federal Advisory Committee Act that the Missouri Advisory Committee (Committee) will hold a meeting on Thursday, August 20, 2015, for the purpose of hearing presenters testify about the civil rights issues regarding police and community interactions in Missouri.

Members of the public are invited and welcomed to make statements into the record during two open forum periods. The first open forum will be held from 12:00 p.m. until 12:30 p.m. The second open forum will be held from 6:15 p.m. until 6:45 p.m. Members of the public are also entitled to submit written comments; the comments must be received in the regional office by September 20, 2015. Written comments may be mailed to the Midwestern Regional Office, U.S. Commission on Civil Rights, 55 W. Monroe St., Suite 410, Chicago, IL 60615. They may also be faxed to the Commission at (312) 353-8311, or emailed to Melissa Wojnaroski, Civil Rights Analyst, at mwojnaroski@usccr.gov. Persons who desire additional information may contact the Midwestern Regional Office at (312) 353-8311.

Closed-captioning of the meeting will be provided. If other persons who will attend the meeting require other accommodations, please contact Carolyn Allen at callen@usccr.gov at the Midwestern Regional Office at least ten (10) working days before the scheduled date of the meeting.

Records and documents discussed during the meeting will be available for public viewing prior to and after the meeting at http://facadatabase.gov/committee/meetings.aspx?cid=258 and clicking on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

Agenda

10:30-10:45 a.m. Introduction and Opening Remarks

S. David Mitchell, Missouri Advisory Committee Chairman

10:45-12:00 p.m. Panel 1: Academic/Government Panel

• Dr. Claiborn

• Pat Hinkel

• Representative, UMKC Criminology

• Local and State Government representatives

12:00-12:30 p.m. Open Forum

12:30-2:00 p.m. LUNCH

2:00-3:15 p.m. Panel 2: Community Representatives I

• Damon Daniel, The Ad Hoc Group Against Crime

• Herston Fails, 100 Black Men of Kansas City

• Sarah Rossi, ACLU of Missouri

• Montague Simmons, Organization for Black Struggle

3:20-4:35 p.m. Panel 3: Law Enforcement

• Chief Williams, Springfield, MO Police Dept.

• Chief Forte, Kansas City Police Dept

• Representative, Jackson County Police Dept

• Representative, International Association of Chiefs of Police

4:35-4:55 p.m. Break

4:55-6:10 p.m. Panel 4: Community Representatives II

• Pastor Floyd Wiggins, Raytown MO Living Word Testament Church

• Gloria Ortiz Fisher, West Side Housing

• Representative, Urban League of Greater Kansas City

• Families and Individuals Directly Impacted

6:15-6:45 p.m. Open Forum II

6:45-7:00 p.m. Closing Remarks

S. David Mitchell, Missouri Advisory Committee Chair

7:00 p.m. Adjournment

DATES: The meeting will be held on Thursday, August 22, 2015, at 10:30 a.m.

ADDRESSES: The meeting will be held at the Bruce R. Watkins Cultural Center, 3700 Blue Pkwy, Kansas City, MO 64130

FOR FURTHER INFORMATION CONTACT: Melissa Wojnaroski, DFO, at 312-353-8311 or mwojnaroski@usccr.gov.

Dated: July 15, 2015.
David Mussatt,
Chief, Regional Programs Unit.

[FR Doc. 2015-17760 Filed 7-20-15; 8:45 am]

BILLING CODE 6335-01-P